INTERNATIONAL TRADE COMMISSION

[USITC SE-04-004]

Sunshine Act; Meeting

Agency Holding the Meeting: International Trade Commission.

Time and Date: March 8, 2004 at 11 a.m.

Place: Room 101, 500 E Street SW., Washington, DC 20436, Telephone: (202) 205-2000.

Status: Open to the public.

Matters to be Considered: 1. Agenda for future meetings: none.

2. Minutes.

3. Ratification List.

4. Inv. No. TA-421-5 (Market Disruption) (Uncovered Innerspring Units from China)—briefing and vote. (The Commission is currently scheduled to transmit its determination on market disruption to the President and the United States Trade Representative on March 8, 2004.)

5. Outstanding action jackets: none.

In accordance with Commission policy, subject matter listed above, not disposed of at the scheduled meeting, may be carried over to the agenda of the following meeting.

By order of the Commission:
Issued: February 24, 2004.
Marilyn R. Abbott,
Secretary to the Commission.

[FR Doc. 04-4438 Filed 2-25-04; 10:34 am]

BILLING CODE 7020-02-P